DEPARTMENT OF HOMELAND SECURITY

Federal Emergency Management Agency

44 CFR Part 67

[Docket ID FEMA-2010-0003; Internal Agency Docket No. FEMA-B-1111]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this document is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before July 13, 2010.

ADDRESSES: The corresponding preliminary Flood Insurance Rate Map (FIRM) for the proposed BFEs for each community is available for inspection at the community's map repository. The respective addresses are listed in the table below.

You may submit comments, identified by Docket No. FEMA-B-1111, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Carlisle County, Kentucky, and Incorporated Areas
Back Slough (Backwater effects from Mississippi River) | From the confluence with Mayfield Creek to approximately 3.2 miles upstream of the confluence with Mayfield Creek | None | +328 | Unincorporated Areas of Carlisle County.
Gray Creek (Backwater effects from Mississippi River) | From the confluence with Mayfield Creek to approximately 1,142 feet upstream of U.S. Route 51 | None | +329 | Unincorporated Areas of Carlisle County.
Gray Creek Tributary 2 (Backwater effects from Mississippi River) | From the confluence with Gray Creek to approximately 0.68 mile upstream of the confluence with Gray Creek | None | +329 | Unincorporated Areas of Carlisle County.
Hurricane Creek (Backwater effects from Mississippi River) | From the confluence with Mayfield Creek to approximately 0.91 mile upstream of the confluence with Mayfield Creek | None | +329 | Unincorporated Areas of Carlisle County.
Mayfield Creek | At the confluence with the Mississippi River | None | +329 | Unincorporated Areas of Carlisle County.
| Approximately 0.62 mile upstream of U.S. Route 62 | None | +352
Mayfield Creek Tributary 23 (Backwater effects from Mayfield Creek) | From the confluence with Mayfield Creek to approximately 0.63 mile upstream of the confluence with Mayfield Creek | None | +346 | Unincorporated Areas of Carlisle County.
Mayfield Creek Tributary 6 (Backwater effects from Mississippi River) | From the confluence with Mayfield Creek to approximately 1.92 mile upstream of the confluence with Mayfield Creek | None | +329 | Unincorporated Areas of Carlisle County.
Mayfield Creek Tributary 6.3 (Backwater effects from Mississippi River) | From the confluence with Mayfield Creek Tributary 6 to approximately 0.8 mile upstream of the confluence with Mayfield Creek Tributary 6 | None | +329 | City of Bardwell, Unincorporated Areas of Carlisle County.
Mississippi River | Approximately 2,656 feet upstream of the confluence with Sandy Branch in Hickman County (at county boundary) | None | +325 | Unincorporated Areas of Carlisle County.
| Approximately 158 feet upstream of the confluence with Mayfield Creek | None | +329
Sandy Branch (Backwater effects from Mississippi River) | From the confluence with Sandy Branch Tributary 2 to approximately 3.2 miles upstream of the confluence with Sandy Branch Tributary 2 | None | +326 | Unincorporated Areas of Carlisle County.
Sandy Branch Tributary 2 (Backwater effects from Mississippi River) | From the confluence with Sandy Branch to approximately 1 mile upstream of the confluence with Sandy Branch | None | +325 | Unincorporated Areas of Carlisle County.
Truman Creek (Backwater effects from Mississippi River) | From the confluence with Mayfield Creek to approximately 1.9 mile upstream of the confluence with Mayfield Creek | None | +329 | Unincorporated Areas of Carlisle County.
West Fork Mayfield Creek (Backwater effects from Mississippi River) | From the confluence with Mayfield Creek to approximately 1,548 feet upstream of U.S. Route 62 | None | +329 | Unincorporated Areas of Carlisle County.
Wilson Creek (Backwater effects from Mayfield Creek) | From the confluence with Mayfield Creek to approximately 1,707 feet upstream of the confluence with Mayfield Creek | None | +334 | Unincorporated Areas of Carlisle County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Bardwell
Maps are available for inspection at 225 Front Street, Bardwell, KY 42023.
Unincorporated Areas of Carlisle County
Maps are available for inspection at 70 West Court Street, Bardwell, KY 42023.
Estill County, Kentucky, and Incorporated Areas
Big Doe Creek (Backwater effects from Kentucky River) | From the confluence with the Kentucky River to approximately 769 feet downstream of Roberts Road | None | +632 | Unincorporated Areas of Estill County.
Billey Fork (Backwater effects from Kentucky River) | From the confluence with Millers Creek to approximately 1,390 feet upstream of CSX Abandoned Railroad | None | +635 | Unincorporated Areas of Estill County.
Blue Run (Backwater effects from Kentucky River) | From the confluence with the Kentucky River to approximately 1.1 mile upstream of the confluence with the Kentucky River | None | +621 | Unincorporated Areas of Estill County.
Buck Creek (Backwater effects from Kentucky River) | From the confluence with the Kentucky River to approximately 0.4 mile downstream of Little Buck Creek Road | None | +636 | Unincorporated Areas of Estill County.
Buck Creek Tributary 1 (Backwater effects from Kentucky River) | From the confluence with Buck Creek to approximately 685 feet upstream of Little Buck Creek Road | None | +635 | Unincorporated Areas of Estill County.
Calloway Creek (Backwater effects from Kentucky River) | From the confluence with the Kentucky River to approximately 1,708 feet downstream of Dry Branch Road | None | +626 | Unincorporated Areas of Estill County.
Calloway Creek Tributary 1 (Backwater effects from Kentucky River) | From the confluence with Calloway Creek to approximately 0.7 mile upstream of the confluence with Calloway Creek | None | +627 | Unincorporated Areas of Estill County.
Campbell Creek (Backwater effects from Kentucky River) | From the confluence with Cow Creek to approximately 0.7 mile upstream of Sid Griffie Road | None | +632 | Unincorporated Areas of Estill County.
Caney Branch (Backwater effects from Kentucky River) | From the confluence with the Red River to approximately 0.6 mile upstream of the confluence with the Red River | None | +605 | Unincorporated Areas of Estill County.
Clear Creek (Backwater effects from Kentucky River) | From the confluence with Station Camp Creek to approximately 0.4 mile downstream of Clearcreek Road | None | +630 | Unincorporated Areas of Estill County.
Cow Creek (Backwater effects from Kentucky River) | From the confluence with the Kentucky River to approximately 1,307 feet downstream of Cow Creek Road | None | +632 | Unincorporated Areas of Estill County.
Crooked Creek (Backwater effects from Kentucky River) | From the confluence with Station Camp Creek to approximately 1.3 miles upstream of Crooked Creek Road | None | +631 | Unincorporated Areas of Estill County.
Drowning Creek (Backwater effects from Kentucky River) | From the confluence with the Kentucky River to just downstream of Richmond Road | None | +620 | Unincorporated Areas of Estill County.
Furnace Fork (Backwater effects from Kentucky River) | From the confluence with Millers Creek to approximately 966 feet upstream of Cobhill Road | None | +635 | Unincorporated Areas of Estill County.
Hinton Branch (Backwater effects from Kentucky River) | From the confluence with Crooked Creek to approximately 0.5 mile upstream of Newton Circle | None | +631 | Unincorporated Areas of Estill County.
Hoys Fork (Backwater effects from Kentucky River) | From the confluence with Crooked Creek to approximately 0.6 mile upstream of Dug Hill Road | None | +631 | Unincorporated Areas of Estill County.
Kentucky River | Approximately at the confluence with the Red River | None | +605 | City of Irvine, City of Ravenna,
| Approximately 8.7 miles upstream of the confluence with Buck Creek | None | +645 | Unincorporated Areas of Estill County.
Kentucky River Trib 4 (Backwater effects from Kentucky River) | From the confluence with the Kentucky River to approximately 1.0 mile upstream of the confluence with the Kentucky River | None | +627 | Unincorporated Areas of Estill County.
Little Doe Creek (Backwater effects from Kentucky River) | From the confluence with the Kentucky River to approximately 532 feet upstream of Little Doe Creek Road | None | +632 | Unincorporated Areas of Estill County.
Long Branch II (Backwater effects from Kentucky River) | From the confluence with Furnace Fork to approximately 0.4 mile upstream of CSX Abandoned Railroad | None | +635 | Unincorporated Areas of Estill County.
Millers Creek (Backwater effects from Kentucky River) | From the confluence with the Kentucky River to the confluence with Billey Fork | None | +635 | Unincorporated Areas of Estill County.
Noland Creek (Backwater effects from Kentucky River) | From the confluence with the Kentucky River to approximately 364 feet downstream of Noland Creek Road | None | +613 | Unincorporated Areas of Estill County.
Polecat Creek (Backwater effects from Kentucky River) | From the confluence with the Kentucky River to approximately 0.6 mile downstream of CSX Railroad | None | +624 | Unincorporated Areas of Estill County.
Possum Run (Backwater effects from Kentucky River) | From the confluence with the Kentucky River to approximately 0.9 mile downstream of Opossum Run Road | None | +621 | Unincorporated Areas of Estill County.
Red River (Backwater effects from Kentucky River) | From the confluence with the Kentucky River to approximately 0.4 mile upstream of the confluence with Caney Branch | None | +605 | Unincorporated Areas of Estill County.
South Fork Noland Creek (Backwater effects from Kentucky River) | From the confluence with Noland Creek to approximately 0.8 mile upstream of the confluence with Noland Creek | None | +613 | Unincorporated Areas of Estill County.
Station Camp Creek (Backwater effects from Kentucky River) | From the confluence with the Kentucky River to approximately 1.6 mile upstream of the confluence with Crooked Creek | None | +631 | Unincorporated Areas of Estill County.
Sudders Fork (Backwater effects from Kentucky River) | From the confluence with Millers Creek to approximately 0.4 mile upstream of CSX Abandoned Railroad | None | +635 | Unincorporated Areas of Estill County.
Sweet Lick Branch (Backwater effects from Kentucky River) | From the confluence with White Oak Creek to approximately 669 feet upstream of Main Street | None | +630 | Unincorporated Areas of Estill County.
White Oak Creek (Backwater effects from Kentucky River) | From the confluence with the Kentucky River to approximately 795 feet upstream of White Oak Road | None | +630 | Unincorporated Areas of Estill County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Irvine
Maps are available for inspection at 101 Chestnut Street, Irvine, KY 40336.
City of Ravenna
Maps are available for inspection at 620 Main Street, Ravenna, KY 40472.
Unincorporated Areas of Estill County
Maps are available for inspection at 130 Main Street, Irvine, KY 40336.
Fulton County, Kentucky, and Incorporated Areas
Bayou de Chien (Backwater effects from Mississippi River) | From the confluence with the Mississippi River to 0.5 mile upstream of the confluence with Little Bayou de Chien | None | +321 | Unincorporated Areas of Fulton County.
Harris Fork Creek Tributary 16 (Backwater effects from Harris Fork Creek) | At the confluence with Harris Fork Creek | +366 | +365 | City of Fulton, Unincorporated Areas of Fulton County.
| Approximately 0.4 mile upstream of the confluence with Harris Fork Creek | +366 | +368
Little Bayou de Chien (Backwater effects from Mississippi River) | From the confluence with the Mississippi River to approximately 2,140 feet downstream of KY-94 | None | +321 | Unincorporated Areas of Fulton County.
Little Bayou de Chien Tributary 29 (Backwater effects from Mississippi River) | From the confluence with Little Bayou de Chien to approximately 0.54 mile upstream of the confluence with Little Bayou de Chien | None | +321 | Unincorporated Areas of Fulton County.
Little Bayou de Chien Tributary 35 (Backwater effects from Mississippi River) | From the confluence with Little Bayou de Chien to approximately 655 feet upstream of the confluence with Little Bayou de Chien | None | +321 | Unincorporated Areas of Fulton County.
Little Bayou de Chien Tributary 9 (Backwater effects from Mississippi River) | From the confluence with Little Bayou de Chien to approximately 0.7 mile upstream of the confluence with Little Bayou de Chien | None | +321 | Unincorporated Areas of Fulton County.
Little Mud Creek (Backwater effects from Mississippi River) | From the confluence with Bayou de Chien to approximately 0.5 mile upstream of KY-94 | None | +320 | Unincorporated Areas of Fulton County.
Little Mud Creek Tributary 1 (Backwater effects from Mississippi River) | From the confluence with Little Mud Creek to approximately 1.2 miles upstream of the confluence with Little Mud Creek | None | +320 | Unincorporated Areas of Fulton County.
Mississippi River | Approximately at the Fulton County boundary with the State of Tennessee | None | +299 | Unincorporated Areas of Fulton County, City of Hickman.
| Approximately 5.7 miles upstream of the confluence with Bayou de Chien | None | +321
Mud Creek (Backwater effects from Mississippi River) | From the confluence with Bayou de Chien to approximately 2,300 feet upstream of the confluence with Mud Creek Tributary 13 | None | +320 | Unincorporated Areas of Fulton County.
Mud Creek Tributary 10 (Backwater effects from Mississippi River) | From the confluence with Mud Creek to approximately 0.9 mile upstream of the confluence with Mud Creek | None | +320 | Unincorporated Areas of Fulton County.
Mud Creek Tributary 12 (Backwater effects from Mississippi River) | From the confluence with Mud Creek to approximately 350 feet upstream of KY-1127 | None | +320 | Unincorporated Areas of Fulton County.
Mud Creek Tributary 13 (Backwater effects from Mississippi River) | From the confluence with Mud Creek to approximately 1,775 feet upstream of the confluence with Mud Creek | None | +320 | Unincorporated Areas of Fulton County.
Mud Creek Tributary 3 (Backwater effects from Mississippi River) | From the confluence with Mud Creek to approximately 0.83 mile upstream of KY-94 | None | +320 | Unincorporated Areas of Fulton County.
Mud Creek Tributary 4 (Backwater effects from Mississippi River) | From the confluence with Mud Creek to approximately 1 mile upstream of KY-2140 | None | +320 | Unincorporated Areas of Fulton County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Fulton
Maps are available for inspection at 101 Nelson Tripp Place, Fulton, KY 42041.
City of Hickman
Maps are available for inspection at 1812 South 7th Street, Hickman, KY 42350.
Unincorporated Areas of Fulton County
Maps are available for inspection at 2216 Myron Cory Drive, Hickman, KY 42050.
Garrard County, Kentucky, and Incorporated Areas
Canoe Creek (Backwater effects from Kentucky River) | From the confluence with the Kentucky River to approximately 0.6 mile upstream of the confluence with the Kentucky River | None | +567 | Unincorporated Areas of Garrard County.
Davis Creek (Backwater effects from Kentucky River) | From the confluence with the Kentucky River to approximately 0.4 mile upstream of the confluence with the Kentucky River | None | +570 | Unincorporated Areas of Garrard County.
Dix River (Backwater effects from Kentucky River) | From the confluence with the Kentucky River to approximately 269 feet downstream of the confluence with Dix River Tributary 82 | None | +553 | Unincorporated Areas of Garrard County.
Kentucky River | Approximately at the confluence with the Dix River | None | +553 | Unincorporated Areas of Garrard County.
| Approximately at the confluence with Paint Lick Creek | None | +573
Kentucky River Tributary 40 (Backwater effects from Kentucky River) | From the confluence with the Kentucky River to approximately 932 feet upstream of Old Lexington Road East | None | +565 | Unincorporated Areas of Garrard County.
Paint Lick Creek (Backwater effects from Kentucky River) | From the confluence with the Kentucky River to approximately 1.9 mile upstream of the confluence with the Kentucky River | None | +573 | Unincorporated Areas of Garrard County.
Scotch Fork (Backwater effects from Kentucky River) | From the confluence with Sugar Creek to approximately 656 feet downstream of Poor Ridge Pike | None | +570 | Unincorporated Areas of Garrard County.
Sugar Creek (Backwater effects from Kentucky River) | From the confluence with the Kentucky River to approximately 0.7 mile upstream of the confluence with Scotch Fork | None | +570 | Unincorporated Areas of Garrard County.
White Oak Creek (Backwater effects from Kentucky River) | From the confluence with the Kentucky River to approximately 0.7 mile upstream of the confluence with Kentucky River | None | +563 | Unincorporated Areas of Garrard County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Garrard County
Maps are available for inspection at 15 Public Square, Lancaster, KY 40444.
McLean County, Kentucky, and Incorporated Areas
Black Lake Creek (Backwater effects from Green River) | From the confluence with Cypress Creek to approximately 1 mile upstream of Coffman Schoolhouse Road | None | +393 | Unincorporated Areas of McLean County.
Buck Creek (Backwater effects from Green River) | From the confluence with West Fork Buck Creek to approximately 275 feet upstream of Atherton Road | None | +391 | Unincorporated Areas of McLean County.
Cypress Creek Tributary 32 (Backwater effects from Green River) | From the confluence with Cypress Creek to approximately 2 miles upstream of the confluence with Cypress Creek | None | +393 | Unincorporated Areas of McLean County.
Cypress Creek Tributary 36 (Backwater effects from Green River) | From the confluence with Cypress Creek to approximately 1.8 miles upstream of KY-85 | None | +391 | Unincorporated Areas of McLean County.
Cypress Creek Tributary 59 (Backwater effects from Green River) | From the confluence with Cypress Creek to approximately 490 feet upstream of Bell Road | None | +389 | Unincorporated Areas of McLean County.
Delaware Creek (Backwater effects from Ohio River) | From the confluence with the Green River to approximately 380 feet upstream of KY-593 | None | +386 | Unincorporated Areas of McLean County.
Green River | Approximately 1.9 mile downstream of the confluence with Green River Tributary 33 | +386 | +387 | City of Livermore, Town of Calhoun, Unincorporated Areas of McLean County.
| Approximately 2.5 miles downstream of KY-85 | +394 | +393
Green River Tributary 19 (Backwater effects from Green River) | From the confluence with the Green River to approximately 0.73 mile downstream of KY-136 | None | +389 | Unincorporated Areas of McLean County.
Green River Tributary 27 (Backwater effects from Green River) | From the confluence with the Green River to approximately 1,270 feet upstream of KY-256 | None | +388 | Unincorporated Areas of McLean County.
Green River Tributary 33 (Backwater effects from Green River) | From the confluence with the Green River to 1.1 miles upstream of the confluence with the Green River | +386 | +387 | Unincorporated Areas of McLean County.
Hanley Creek (Backwater effects from Green River) | From the confluence with the Green River to approximately 0.54 mile upstream of KY-136 | None | +390 | Unincorporated Areas of McLean County.
Long Falls Creek (Backwater effects from Green River) | From the confluence with the Green River to approximately 2,330 feet upstream of KY-815 | None | +389 | Unincorporated Areas of McLean County.
Long Falls Creek Tributary 18 (Backwater effects from Green River) | From the confluence with Long Falls Creek to approximately 0.59 mile upstream of the confluence with Long Falls Creek | None | +389 | Unincorporated Areas of McLean County.
Long Falls Creek Tributary 22 (Backwater effects from Green River) | From the confluence with Long Falls Creek to approximately 2,400 feet downstream of KY-140 | None | +389 | Unincorporated Areas of McLean County.
Long Falls Creek Tributary 23 (Backwater effects from Green River) | From the confluence with Long Falls Creek to approximately 0.88 mile upstream of Leachman Schoolhouse Road | None | +389 | Unincorporated Areas of McLean County.
Pond Drain (Backwater effects from Green River) | From the confluence with Pond Drain Tributary 1 to approximately 1.3 mile upstream of the confluence with Pond Drain Tributary 1 | None | +390 | Unincorporated Areas of McLean County.
Pond Drain Tributary 1 (Backwater effects from Green River) | From the confluence with Pond Drain to approximately 656 feet downstream of Adams Schoolhouse Road | None | +389 | Unincorporated Areas of McLean County.
Pond Drain Tributary 2 (Backwater effects from Green River) | From the confluence with Pond Drain to approximately 400 feet upstream of KY-81 | None | +390 | Unincorporated Areas of McLean County.
Pond Drain Tributary 2.1 (Backwater effects from Green River) | From the confluence with Pond Drain Tributary 2 to approximately 1,890 feet upstream of the confluence with Pond Drain Tributary 2 | None | +390 | Unincorporated Areas of McLean County.
Pond River Tributary 107 (Backwater effects from Green River) | From the McLean County boundary to approximately 266 feet downstream of Branch Schoolhouse Road | None | +389 | Unincorporated Areas of McLean County.
West Fork Buck Creek (Backwater effects from Green River) | From the confluence with the Green River to approximately 2,200 feet downstream of KY-250 | None | +390 | Unincorporated Areas of McLean County.
West Fork Buck Creek Tributary 10 (Backwater effects from Green River) | From the confluence with West Fork Buck Creek to 0.6 mile upstream of the confluence with West Fork Buck Creek | None | +390 | Unincorporated Areas of McLean County.
Yellow Creek (Backwater effects from Green River) | From the confluence with Yellow Creek Tributary 6 to 0.65 mile upstream of the confluence with Yellow Creek Tributary 6 | None | +388 | Unincorporated Areas of McLean County.
Yellow Creek Tributary 6 (Backwater effects from Green River) | From the confluence with Yellow Creek to approximately 1,265 feet upstream of the confluence with Yellow Creek | None | +388 | Unincorporated Areas of McLean County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Livermore
Maps are available for inspection at 105 West 3rd Street, Livermore, KY 42352.
Town of Calhoun
Maps are available for inspection at 325 West 2nd Street, Calhoun, KY 42327.
Unincorporated Areas of McLean County
Maps are available for inspection at 210 Main Street, Calhoun, KY 42327.

(Catalog of Federal Domestic Assistance No. 97.022, “Flood Insurance.”)

Dated: March 31, 2010.
Sandra K. Knight,
Deputy Federal Insurance and Mitigation Administrator, Mitigation, Department of Homeland Security, Federal Emergency Management Agency.

[FR Doc. 2010-8461 Filed 4-13-10; 8:45 am]

BILLING CODE 9110-12-P